DEPARTMENT OF TRANSPORTATION

Federal Railroad Administration

[Docket Number FRA-1999-6253]

Petition for Waiver of Compliance

In accordance with Part 211 of Title 49 Code of Federal Regulations (CFR), this document provides the public notice that the Utah Transit Authority (UTA) has petitioned the Federal Railroad Administration (FRA) for a waiver of compliance from certain provisions of the Federal railroad safety regulations. FRA assigned the petition Docket Number FRA-1999-6253.

UTA, operator of the TRAX light rail system in Salt Lake City, UT, seeks an extension/partial modification of the current terms and conditions of its current Shared Use waiver of compliance from certain provisions of Title 49. The TRAX system is operated with temporal separation on track owned by UTA and shared partially with Utah Railway Company and Savage Bingham & Garfield Railroad Company freight trains dispatched by UTA. Safety oversight of UTA is the responsibility of the Federal Transit Administration via the Utah Department of Transportation as prescribed in 49 CFR Part 659. UTA was granted the original Shared Use waiver by the FRA Railroad Safety Board on August 19, 1999, for the North-South Line; the waiver was modified on March 25, 2011, to include a portion of the Mid-Jordan extension with its additional new Siemens S70 rolling stock. With this request, UTA is modifying the limits of Shared Use of the North-South Line to reflect the cessation of freight service south of 6100 South as part of the new transit-exclusive Draper Extension to the North-South Line.

Noting these various operational and infrastructure changes occurring on the TRAX system over the last several years, and the associated modifications to the regulatory relief granted by FRA, UTA is requesting that FRA extend the regulatory relief granted to date related to the TRAX system (inclusive of North-South and Bingham Extension portions that feature nightly freight service and thus a connection with the general railroad system) and coordinate that relief so that all such waivers will expire at the same time—5 years from the date of FRA's decision letter. UTA submits that the extension and modifications of the waiver sought are in the public interest and consistent with railroad safety because UTA will adopt specific policies and procedures that will provide a level of safety equivalent to that provided by full compliance with FRA regulations. UTA submits that this request is consistent with the waiver process for Shared Use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

Specifically, UTA requests relief from the following provisions of Title 49 of the CFR: Part 210—Railroad Noise Emission Compliance; Part 217—Railroad Operating Rules; Part 218—Railroad Operating Practices; Part 219—Control of Alcohol and Drug Use; Part 220—Railroad Communications; 221.13(d) and 221.14(a) (pertaining to rear end marking devices); 223.9(c), 223.15(c) and 223.17 (pertaining to safety glazing standards and emergency windows); certain aspects of Part 225—Railroad Accidents/Incidents; Part 228—Hours of Service (A-E); 229.46-229.59, 229.61, 229.65, 229.71, 229.77(b), 229.125, 229.135 (pertaining to locomotive safety standards); 231.14 (pertaining to railroad safety appliance standards); 234.105 (pertaining to grade crossing signal systems safety and activation failures); 238.113, 238.115(b), 238.203, 238.205(b), 238.207, 238.209, 238.211, 238.213, 238.215, 238.217, 238.221, 238.229, 238.231, 238.233, 238.301-238.319 (pertaining to passenger equipment safety standards); Part 239—Passenger Rail Emergency Preparedness; Part 240—Qualification and Certification of Locomotive Engineers; Part 242—Conductor Certification.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by January 2, 2015 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on November 12, 2014.
Ron Hynes,
Director, Office of Technical Oversight.

[FR Doc. 2014-27217 Filed 11-17-14; 8:45 am]

BILLING CODE 4910-06-P